NATIONAL SCIENCE FOUNDATION

Committee Management; Renewal

The NSF management officials having responsibility for the advisory committee listed below has determined that renewing this committee for another two years is necessary and in the public interest in connection with the performance of duties imposed upon the Director, National Science Foundation (NSF), by 42 U.S.C. 1861 et seq. This determination follows consultation with the Committee Management Secretariat, General Services Administration.

Committee: Advisory Committee for International Science and Engineering, #25104.

Effective date for renewal is April 14, 2017. For more information, please contact Crystal Robinson, NSF, at (703) 292-8687.

Dated: April 14, 2017.
Crystal Robinson,
Committee Management Officer.

[FR Doc. 2017-07887 Filed 4-18-17; 8:45 am]

BILLING CODE 7555-01-P